DEPARTMENT OF TRANSPORTATION

Federal Aviation Administration

14 CFR Part 39

[Docket No. FAA-2025-5035; Project Identifier MCAI-2025-00707-R; Amendment 39-23262; AD 2026-04-03]

RIN 2120-AA64

Airworthiness Directives; Leonardo S.p.A. Helicopters

AGENCY: Federal Aviation Administration (FAA), DOT.

ACTION: Final rule.

SUMMARY: The FAA is adopting a new airworthiness directive (AD) for all Leonardo S.p.A. Model AB139 and AW139 helicopters. This AD was prompted by a report of interference found in the overhead panel area between the electrical cables and adjacent connectors. This AD requires repetitively inspecting the overhead panel and, depending on the results, repairing or replacing the damaged wires. This AD also requires modifying the overhead panel on certain helicopters. The FAA is issuing this AD to address the unsafe condition on these products.

DATES: This AD is effective April 2, 2026.

The Director of the Federal Register approved the incorporation by reference of a certain publication listed in this AD as of April 2, 2026.

ADDRESSES:

AD Docket: You may examine the AD docket at regulations.gov under Docket No. FAA-2025-5035; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-5035.

FOR FURTHER INFORMATION CONTACT: Michael Yeshiambel, Aviation Safety Engineer, FAA, 1600 Stewart Avenue, Suite 410, Westbury, NY 11590; phone: (316) 946-4133; email: michael.m.yeshiambel@faa.gov.

SUPPLEMENTARY INFORMATION:

Background

The FAA issued a notice of proposed rulemaking (NPRM) to amend 14 CFR part 39 by adding an AD that would apply to all Leonardo S.p.A. Model AB139 and AW139 helicopters. The NPRM was published in the Federal Register on December 4, 2025 (90 FR 55817). The NPRM was prompted by EASA AD 2025-0094, dated April 24, 2025 (EASA AD 2025-0094) (also referred to as the MCAI), issued by EASA, which is the Technical Agent for the Member States of the European Union. The MCAI states a report of interference was found in the overhead panel area between the electrical cables and adjacent connectors.

In the NPRM, the FAA proposed to require repetitively inspecting the overhead panel and, depending on the results, repairing or replacing the damaged wires. The NPRM also proposed to require modifying the overhead panel on certain helicopters.

The FAA is issuing this AD to detect and address chafing of the electrical cables. The unsafe condition, if not addressed, could result in chafing of the electrical cables which could lead to a fire in the overhead panel with consequent loss of control of the helicopter.

You may examine the MCAI in the AD docket at regulations.gov under Docket No. FAA-2025-5035.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2025-0094, which specifies procedures for repetitively inspecting the overhead panel for interference, condition of the protective tape, and chafing of the cables. EASA AD 2025-0094 also specifies procedures for certain helicopters to modify the overhead panel. This material is reasonably available because the interested parties have access to it through their normal course of business or by the means identified in the ADDRESSES section.

Differences Between This AD and the MCAI

Where the MCAI specifies contacting Leonardo S.p.A for repair instructions or corrective actions, this AD requires using a method approved by the FAA, EASA, or Leonardo S.p.A Helicopters' EASA Design Organization Approval.

EASA AD 2025-0094 specifies reporting the inspection results to Leonardo S.p.A. Helicopters, where this AD does not include that action.

Costs of Compliance

The FAA estimates that this AD affects 121 helicopters of U.S. registry.

The FAA estimates the following costs to comply with this AD:

Estimated Costs
Action | Labor cost | Parts cost | Cost per product | Cost on U.S. operators
Inspect overhead panel | 2 work-hours × $85 per hour = $170 | $0 | $170 | $20,570.
Modify overhead panel | 3 work-hours × $85 per hour = $255 | 16 | 271 | Up to $32,791.

The actions needed as a result of any cables that cannot be repaired could vary significantly from helicopter to helicopter. The FAA has no way of determining the costs to accomplish the repairs or the number of helicopters that may require repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-04-03 Leonardo S.p.A.: Amendment 39-23262; Docket No. FAA-2025-5035; Project Identifier MCAI-2025-00707-R.

(a) Effective Date

This airworthiness directive (AD) is effective April 2, 2026.

(b) Affected ADs

None.

(c) Applicability

This AD applies to all Leonardo S.p.A. Model AB139 and AW139 helicopters, certificated in any category.

(d) Subject

Joint Aircraft System Component (JASC) Code 2497, Electrical Power System Wiring.

(e) Unsafe Condition

This AD was prompted by a report of interference found in the overhead panel area between the electrical cables and adjacent connectors. The FAA is issuing this AD to detect and address chafing of the electrical cables. The unsafe condition, if not addressed, could result in chafing of the electrical cables which could lead to a fire in the overhead panel with consequent loss of control of the helicopter.

(f) Compliance

Comply with this AD within the compliance times specified, unless already done.

(g) Requirements

Except as specified in paragraphs (h) and (i) of this AD: Comply with all required actions and compliance times specified in, and in accordance with, European Union Aviation Safety Agency AD 2025-0094, dated April 24, 2025 (EASA AD 2025-0094).

(h) Exceptions to EASA AD 2025-0094

(1) Where EASA AD 2025-0094 refers to its effective date, this AD requires using the effective date of this AD.

(2) Where EASA AD 2025-0094 requires compliance in terms of flight hours, this AD requires using hours time-in-service.

(3) Where paragraph (3) of EASA AD 2025-0094 specifies “If, during the inspection as required by paragraph (1) of this AD, any discrepancy is detected, as identified in the ASB (Alert Service Bulletin), before next flight, accomplish the applicable corrective action(s) in accordance with the instructions of Part I”, this AD requires replacing that text with “If, during the inspection as required by paragraph (1) of this AD, any discrepancy is detected, as identified in Part I of the ASB, before next flight, accomplish the applicable corrective action(s) in accordance with the instructions of Part I of the ASB”.

(4) Where paragraph (4) of EASA AD 2025-0094 specifies “If, during any inspection as required by paragraph (2) of this AD, any discrepancy is detected, as identified in the ASB”, this AD requires replacing that text with “If, during any inspection as required by paragraph (2) of this AD, any discrepancy is detected, as identified in Part II of the ASB”.

(5) Where the material referenced in EASA AD 2025-0094 specifies to contact “LHD Product Support Engineering” for repair instructions, this AD requires using a method approved by the Manager, International Validation Branch, FAA; or EASA; or Leonardo S.p.A. Helicopters' EASA Design Organization Approval (DOA). If approved by the DOA, the approval must include the DOA-authorized signature.

(6) Where the material referenced in EASA AD 2025-0094 specifies “if necessary, use a mirror and a source of light to completely inspect the area”, this AD requires replacing that text with “Use a mirror and light source to inspect the area”.

(7) This AD does not adopt the “Remarks” section of EASA AD 2025-0094.

(i) No Reporting Requirement

Although EASA AD 2025-0094 specifies reporting certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Michael Yeshiambel, Aviation Safety Engineer, FAA, 1600 Stewart Avenue, Suite 410, Westbury, NY 11590; phone: (316) 946-4190; email: michael.m.yeshiambel@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0094, dated April 24, 2025.

(ii) Reserved

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 24, 2026.
Steven W. Thompson,
Acting Deputy Director, Compliance & Airworthiness Division, Aircraft Certification Service.

[FR Doc. 2026-03872 Filed 2-25-26; 8:45 am]

BILLING CODE 4910-13-P